DEPARTMENT OF HEALTH AND HUMAN SERVICES

Centers for Disease Control and Prevention

[60Day-23-1359; Docket No. CDC-2023-0034]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National Survey of Syringe Services Programs (NSSSP). This data collection which proposes assess and monitor SSP operational characteristics and services, funding resources, community relations, and key operational and programmatic successes and challenges, and support timely analysis and dissemination of national program evaluation survey findings.

DATES: CDC must receive written comments on or before July 3, 2023.

ADDRESSES: You may submit comments, identified by Docket No. CDC-2021-0034 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The National Survey of Syringe Services Programs (NSSSP) (OMB Control No. 0920-1359, Exp. 12/31/2024)—Revision—National Center for HIV, Viral Hepatitis, STD, and TB Prevention (NCHHSTP), Centers for Disease Control and Prevention, Centers for Disease Control and Prevention (CDC).

Background and Brief Description

The primary purpose of the National Survey of Syringe Services Programs (NSSSP) is to strengthen and improve the ability of CDC and local and state partners to monitor and evaluate syringe services programs (SSPs) nationally, with the overall goal of supporting, sustaining, and improving SSPs nationwide and reducing infectious disease and other harms related to drug use. Findings from the 2020-2021 survey successfully characterized operational characteristics and services, funding resources, community relations, and key operational successes and challenges. The 2022 survey is currently being implemented. Revisions are being requested to address the increasing number of SSPs nationwide, the changing landscape of drug use nationally, additional SSP supplies and services provided, and ways in which SSPs are developing strategies to address the needs of PWUD.

The project will include all SSPs that are listed in a publicly available directory of all known SSPs in the United States maintained by the North American Syringe Exchange Network (NASEN; https://nasen.org). The project will also include SSPs in NASEN's directory that do not wish to be publicly listed but have agreed to be contacted for research purposes, SSPs belonging to NASEN's buyers' club that are not part of the directory, respondents to prior RTI Arnold Ventures Surveys of SSPs that are not part of NASEN's directory, and other SSPs proactively identified through searching state health department websites, funding agencies, state and regional networks, regional conferences, partner organization networks or webinars and via social media. SSPs will be sent a letter of invitation to participate in a 35-minute program survey. Participating programs will have the option of completing the survey via different modalities to enhance feasibility and comfort in completing the survey, for example via the Research Electronic Data Capture (REDCap) or a similarly secure web-based application. Other modalities for survey administration will include a coordinated telephone or videoconferencing interview. SSPs will be sent reminder letters for an approximately six-month data collection period. SSPs that do not respond to prior reminders will be sent one final reminder, and if the SSP still does not want to participate, one (optional) question on why the SSP did not complete the survey will be offered. The survey will include questions on operational characteristics and services, funding resources, community relations, and key operational successes and challenges.

Approximately 800 SSPs will be able to participate in the survey. We anticipate that approximately 20% of SSPs will decline to complete the survey, yielding approximately 640 completed surveys per year. However, given that it is challenging to predict future response rates, we are requesting enough burden hours to allow 100% of SSPs to respond to the survey. We estimate that it will take 35 minutes to complete the survey, regardless of how the respondent chooses to complete it (i.e., self-administered online or interviewer-administered by phone or videoconferencing).

CDC requests OMB approval for an estimated 494 annual burden hours. There is no cost to respondents other than their time to participate.

Estimates of Annualized Burden Hours
Respondent | Form name | Number of respondents | Number of responses per respondent | Average burden per response (hours) | Total burden (in hours)
All participating SSPs | National Syringe Services Program Evaluation Survey | 800 | 1 | 35/60 | 467
Non-responding SSPs | Non-Response Survey Item | 800 | 1 | 2/60 | 27
Total |  |  |  |  | 494

Jeffrey M. Zirger,
Lead, Information Collection Review Office, Office of Public Health Ethics and Regulations, Office of Science, Centers for Disease Control and Prevention.

[FR Doc. 2023-09519 Filed 5-3-23; 8:45 am]

BILLING CODE 4163-18-P